DEPARTMENT OF ENERGY

Federal Energy Regulatory Commission

[Docket No. RP01-382-000]

Northern Natural Gas Company; Notice of Proposed Changes in FERC Gas Tariff

April 25, 2001.

Take notice that on April 19, 2001, Northern Natural Gas Company (Northern), tendered for filing as part of its FERC Gas Tariff, Fifth Revised Volume No. 1, the following tariff sheets proposed to be effective May 19, 2001:

55 Revised Sheet No. 50

56 Revised Sheet No. 51

23 Revised Sheet No. 52

Fifth Revised Sheet No. 56

Sixth Revised Sheet No. 263

Seventh Revised Sheet No. 263A

Second Revised Sheet No. 263B

Second Revised Sheet No. 263C

Third Revised Sheet No. 263D

Third Revised Sheet No. 263E

Northern states that it is filing revised tariff sheets to amend the provisions dealing with the Carlton Commodity Surcharge as further discussed in the filing.

Northern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10738 Filed 4-30-01; 8:45 am]

BILLING CODE 6717-01-M